CONSUMER PRODUCT SAFETY COMMISSION

“Federal Register” Citation of Previous Announcement: November 21, 2000 (Volume 65, Number 225, Page 69915)

Previously Announced Time and Date of Meeting: 2 p.m., November 29, 2000.

Changes in Meeting: The closed meeting regarding the Compliance Status Report is canceled. The meeting will be rescheduled.

For a recorded message containing the latest agenda information, call (301) 504-0709.

FOR FURTHER INFORMATION CONTACT: Sadye E. Dunn, Office of the Secretary, 4330 East West Highway, Bethesda, MD 20207 (301) 504-0800.

Dated: November 22, 2000.
Sadye E. Dunn,
Secretary.

[FR Doc. 00-30272 Filed 11-22-00; 1:22 pm]

BILLING CODE 6355-01-M